DEPARTMENT OF THE TREASURY

Office of Foreign Assets Control

31 CFR Chapter V

Notice of Reporting Instructions Under the Rebuilding Economic Prosperity and Opportunity for Ukrainians Act

AGENCY: Office of Foreign Assets Control, Treasury.

ACTION: Notification of reporting instructions under the Rebuilding Economic Prosperity and Opportunity for Ukrainians Act.

SUMMARY: The U.S. Department of the Treasury's Office of Foreign Assets Control (OFAC) is publishing reporting instructions in the Federal Register. The reporting instructions, issued pursuant to the Rebuilding Economic Prosperity and Opportunity for Ukrainians Act were published on the OFAC website on July 23, 2024.

DATES: Reporting Instructions under the Rebuilding Economic Prosperity and Opportunity for Ukrainians Act, Public Law 118-50, Division F, were issued on July 23, 2024.

FOR FURTHER INFORMATION CONTACT: OFAC: Associate Director for Global Targeting, tel.: 202-622-2420; Assistant Director for Licensing, tel.: 202-622-2480; Assistant Director for Regulatory Affairs, tel.: 202-622-4855; or Assistant Director for Compliance, tel.: 202-622-2490.

SUPPLEMENTARY INFORMATION:

Electronic Availability

This document and additional information concerning OFAC are available on OFAC's website: https://ofac.treasury.gov/.

Background

The Rebuilding Economic Prosperity and Opportunity for Ukrainians Act, Public Law 118-50, Division F (the “REPO for Ukrainians Act” or the “Act”), was enacted on April 24, 2024. Section 104(a)(1) of the Act provides that “the President shall, by means of such instructions or regulations as the President may prescribe, require any financial institution at which Russian sovereign assets are located, and that knows or should know of such assets, to provide notice of such assets, including relevant information required under section 501.603(b)(ii) [sic] of title 31, Code of Federal Regulations (or successor regulations), to the Secretary of the Treasury not later than 10 days after detection of such assets.”

On July 22, 2024, the President delegated the functions and authorities in section 104(a)(1) of the Act to the Secretary of the Treasury. On July 23, 2024, OFAC issued Reporting Instructions under the Act.

Paperwork Reduction Act

Pursuant to the Paperwork Reduction Act of 1995 (44 U.S.C. 3507), the collections of information related to the Reporting, Procedures and Penalties Regulations, 31 CFR part 501 (the “Regulations”), have been previously approved by the Office of Management and Budget (OMB) under OMB control number 1505-0164 Reporting, Procedures and Penalties Regulation. These reporting instructions, issued pursuant to the REPO for Ukrainians Act, and the form used to collect that information, are substantially similar to the collections of information issued pursuant to the Regulations. Specifically, these reporting instructions require financial institutions to report on Russian sovereign assets that they hold that have not already been reported pursuant to § 501.603 of the Regulations or Directive 4 under Executive Order 14024, both of which are included within the existing collections of information related to the Regulations that have been previously approved by OMB.

These instructions, and the form available to report such information, have been submitted to OMB for review and approval under OMB control number 1505-0164 Reporting, Procedures and Penalties Regulation. The likely respondents and record-keepers affected by these reporting instructions are financial institutions. OFAC has reviewed its existing data on reports of blocked or immobilized property, as well as data on the number of financial institutions likely to be holding Russian sovereign assets, to estimate the reporting burden, as set forth below.

Title: Reporting, Procedures and Penalties Regulations.

OMB Control Number: 1505-0164.

Form Name: REPO For Ukrainians Act Report Form.

Form Number: TD-F 93.09.

Type of Review: Revision.

Affected Public: Private Sector—Financial Institutions.

Estimated Number of Financial Institution Respondents: 300.

Frequency of Response: On occasion.

Estimated Total Number of Annual Responses: 300.

Estimated Time per Response: 30 minutes.

Estimated Total Annual Burden Hours: 150 hours.

The text of the reporting instructions is provided below.

OFFICE OF FOREIGN ASSETS CONTROL

Reporting Instructions Under the Rebuilding Economic Prosperity and Opportunity for Ukrainians Act

Pursuant to section 104(a) of the Rebuilding Economic Prosperity and Opportunity for Ukrainians Act, Public Law 118-50, Division F (the “REPO for Ukrainians Act,” or the “Act”), all financial institutions at which Russian sovereign assets are located, and that know or should know of such assets, are required to provide notice of such assets to the Office of Foreign Assets Control (OFAC) no later than August 2, 2024 or within 10 days of the detection of such assets. Financial institutions that maintain correspondent or payable-through accounts on behalf of foreign financial institutions should exercise reasonable due diligence to report any Russian sovereign assets held in such accounts.

Financial institutions may rely on reports regarding Russian sovereign assets located at the financial institution that are filed pursuant to Directive 4 under Executive Order (E.O.) 14024 or in reports of blocked property filed pursuant to 31 CFR 501.603(b) to fulfill their obligations under section 104(a) of the Act with respect to those assets and should not re-report to OFAC any such assets under this instruction. Reports provided under this instruction shall identify Russian sovereign assets not otherwise reported to OFAC pursuant to Directive 4 under E.O. 14024 or in reports of blocked property filed pursuant to 31 CFR 501.603(b).

(a) Reports. Reports of Russian sovereign assets shall include the following:

(1) The name and address of the person in possession or control of the property;

(2) The date the property came into the possession or control of such person;

(3) The person that owns the account or property;

(4) A description of the property and its location in the United States or otherwise, including any relevant account types, account numbers, reference numbers, dates, or other information necessary to identify the property;

(5) The actual, or if unknown, estimated value of the property in U.S. dollars. Foreign currencies must be reported in U.S. dollars with the foreign currency amount and notional exchange rate in the narrative; and

(6) A copy of the most recent relevant account statement or other documentation to support the estimated value of the property.

Reports under this instruction should be submitted using the REPO for Ukrainians Act Report Form, which is available on OFAC's website (https://ofac.treasury.gov/). Financial institutions with responsive information should email completed forms to ofacreport@treasury.gov with the subject line, “[Name of Financial Institution] REPO for Ukrainians Act Report.”

(b) Definitions. Pursuant to section 2 of the Act and for purposes of these instructions:

(1) The term “financial institution” means a financial institution specified in subparagraph (A), (B), (C), (D), (E), (F), (G), (H), (I), (J), (M), or (Z) of section 5312(a)(2) of title 31 United States Code.

(2) The term “Russian sovereign asset” means any of the following, regardless of whether such asset is blocked or effectively immobilized by the Department of the Treasury: (A) Funds and other property of (i) the Central Bank of the Russian Federation, (ii) the Russian National Wealth Fund, or (iii) the Ministry of Finance of the Russian Federation; or (B) any other funds or other property that are owned by the Government of the Russian Federation, including by any subdivision, agency, or instrumentality of that government.

Bradley T. Smith,
Director, Office of Foreign Assets Control.

[FR Doc. 2024-16479 Filed 7-25-24; 8:45 am]

BILLING CODE 4810-AL-P